DEPARTMENT OF ENERGY

[GDO Docket No. EA-427]

Application for Amended Authorization To Export Electric Energy; Versant Power

AGENCY: Grid Deployment Office, Department of Energy.

ACTION: Notice of application.

SUMMARY: Versant Power (the Applicant), formerly known as Emera Maine, has applied to transmit electric energy from the United States to Canada pursuant to the Federal Power Act.

DATES: Comments, protests, or motions to intervene must be submitted on or before June 10, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On December 5, 1963, DOE issued Order No. E-6751 authorizing Maine Public Service Company (Maine Public) to transmit electric energy from the United States to Canada. On October 7, 2020, Versant Power filed an application (Application or App.) with DOE seeking to rescind Order No. E-6751 and have the authorization to export electric energy issued to Versant Power. App. at 1.DOE did not act upon Versant Power's initial application to rescind and reissue Order No. E-6751.

According to the Application, Maine Public merged with Bangor Hydro Electric Company (Bangor Hydro) to form Emera Maine on January 1, 2014. App. at 1. Emera Maine then changed its name to Versant Power in May 2020. Id. Versant Power states that it is a “Maine corporation in the business of the purchase, sale, transmission and distribution of electricity in the state of Maine.” Id. at 2. The Applicant states it is the principal operating subsidiary of BHE Holdings, Inc., a Delaware corporation. Id. Versant Power further states that it “has received market-based rate authority from the Federal Energy Regulatory Commission.” Id. The Applicant does not “own [any] generation and only engage[s] in the wholesale marketing of generation[.]” Id. at 6. Additionally, Versant Power represents that since it is primarily a transmission and distribution utility, “any sales of electric energy will be surplus to the needs of the customers within [the Applicant's] service territory, so that the export of power will not impair the sufficiency of electric power supply in the U.S.” App. at 6. Further, the Applicant states it agrees to abide by the export limits of the transmission facilities over which it seeks to export and asserts its exports “will not impede or tend to impede the coordinated use of transmission facilities within the meaning of Section 202(e) of the FPA.” Id. at 8.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning Versant Power's Application should be clearly marked with GDO Docket No. EA-427. Additional copies are to be provided directly to Philip C. Smith, Corporate Counsel, Versant Power, P.O. Box 932, Bangor, ME 04401, philip.smith@versantpower.com, and Bonnie A. Suchman, Suchman Law LLC, 8104 Paisley Place, Potomac, Maryland 20854, bonnie@suchmanlawllc.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on May 21, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 21, 2024.
Treena V. Garrett,
Federal Register Liaison Officer, U.S. Department of Energy.

[FR Doc. 2024-11497 Filed 5-23-24; 8:45 am]

BILLING CODE 6450-01-P